DEPARTMENT OF EDUCATION

Applications for New Awards; Veterans Upward Bound Program

AGENCY: Office of Postsecondary Education, Department of Education.

ACTION: Notice.

SUMMARY: The Department of Education (Department) is issuing a notice inviting applications for new awards for fiscal year (FY) 2022 for the Veterans Upward Bound (VUB) Program, Assistance Listing Number 84.047V. This notice relates to the approved information collection under OMB control number 1840-0823.

DATES:

Applications Available: April 26, 2022.

Deadline for Transmittal of Applications: June 10, 2022.

Deadline for Intergovernmental Review: August 9, 2022.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Kenneth Foushee, U.S. Department of Education, 400 Maryland Avenue SW, Room 2C221, Washington, DC 20202-4260. Telephone: (202) 453-7417. Email: Kenneth.Foushee@ed.gov or Dana Foreman, U.S. Department of Education, 400 Maryland Avenue SW, Room 2C142, Washington, DC 20202-4260. Telephone: (202) 453-7396. Email: Dana.Foreman@ed.gov.

If you are deaf, hard of hearing, or have a speech disability and wish to access telecommunications relay services, please dial 7-1-1.

SUPPLEMENTARY INFORMATION:

Full Text of Announcement

I. Funding Opportunity Description

Purpose of Program: The Upward Bound (UB) Program is one of the seven programs collectively known as the Federal TRIO Programs. The UB Program is a discretionary grant program that supports projects designed to provide students with the skills and motivation necessary to complete a program of secondary education and enter into and succeed in a program of postsecondary education. There are three types of grants under the UB Program: UB; VUB; and UB Math and Science. In this notice we invite applications for VUB grants only. The invitation to apply for UB grants was published in the Federal Register on December 16, 2021, and is available at https://www.federalregister.gov/documents/2021/12/16/2021-27235/applications-for-new-awards-upward-bound-program. We will invite applications for UB Math and Science grants in a separate notice.

The VUB Program supports projects designed to prepare, motivate, and assist military veterans in the development of academic and other skills necessary for acceptance into and success in a program of postsecondary education.

VUB grantees are required to provide the services listed in section 402C(b) and (c) of the Higher Education Act of 1965, as amended (HEA) (20 U.S.C. 1070a-13(b), (c)). Permissible services under the VUB Program are specified in section 402C(d) of the HEA (20 U.S.C. 1070a-13(d)).

Priorities: This notice contains three competitive preference priorities. Competitive Preference Priority 1 is from the Secretary's Notice of Administrative Priorities for Discretionary Grant Programs, published in the Federal Register on March 9, 2020 (85 FR 13640) (Administrative Priorities). Competitive Preference Priorities 2 and 3 are from the Secretary's Supplemental Priorities and Definitions for Discretionary Grant Programs, published in the Federal Register on December 10, 2021 (86 FR 70612) (Supplemental Priorities).

Note: Applicants must include in the one-page abstract submitted with the application an indication of which, if any, competitive preference priorities are addressed. If the applicant has addressed one or more of the competitive preference priorities, this information must also be listed on the VUB Program Profile Form.

Competitive Preference Priorities: For FY 2022 and any subsequent year in which we make awards from the list of unfunded applicants from this competition, these priorities are competitive preference priorities. Under 34 CFR 75.105(c)(2)(i), we award up to an additional nine points to an application, depending on how well the application meets the priorities.

These priorities are:

Competitive Preference Priority 1: Applications that Demonstrate a Rationale (Up to 3 points).

Under this priority, an applicant proposes a project that demonstrates a rationale (as defined in this notice).

Note: A list of evidence-based practices that are relevant to the VUB Program is available at https://www2.ed.gov/programs/triovub/applicant.html. This list is not exhaustive. Additional information regarding What Works Clearinghouse practice guides and intervention reports that could also be relevant is posted on the Department's website at www.ies.ed.gov/ncee/wwc.

Competitive Preference Priority 2: Meeting Student Social, Emotional, and Academic Needs (Up to 3 points).

Projects that are designed to improve students' social, emotional, academic, and career development, with a focus on underserved students, through the following priority areas:

(a) Developing and supporting educator and school capacity to support social and emotional learning and development that is trauma-informed, such as addressing exposure to community-based violence and trauma specific to military- or veteran-connected students (as defined in this notice); and

(b) Creating education or work-based settings that are supportive, positive, identify-safe and inclusive with regard to race, ethnicity, culture, language, and disability status, through developing trusting relationships between students (including underserved students), educators, families, and community partners.

Note: Because the VUB Program supports students and not the professional development of educators, applicants should address supports for students only.

Competitive Preference Priority 3: Strengthening Cross-Agency Coordination and Community Engagement to Advance Systemic Change (Up to 3 points).

Projects that are designed to take a systemic evidence-based approach to improving outcomes for underserved students by establishing cross-agency partnerships, or community-based partnerships with local nonprofit organizations, businesses, philanthropic organizations, or others, to meet family well-being needs.

Definitions: The definitions below are from 34 CFR 77.1, the Supplemental Priorities, and the UB regulations at 34 CFR 645.6.

Demonstrates a rationale means a key project component included in the project's logic model is informed by research or evaluation findings that suggest the project component is likely to improve relevant outcomes.

Evidence-based means the proposed project component is supported by evidence that demonstrates a rationale.

Logic model (also referred to as theory of action) means a framework that identifies key components of the proposed project, product (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Military- or veteran-connected student means a student who is a member of the uniformed services, a veteran of the uniformed services, or the spouse of a service member or veteran.¹

¹ In accordance with the VUB regulations, “military- and veteran-connected student” is limited to those who qualify as “veterans” under 34 CFR 645.6(b), namely “a person who—

(1) Served on active duty as a member of the Armed Forces of the United States for a period of more than 180 days and was discharged or released under conditions other than dishonorable;

(2) Served on active duty as a member of the Armed Forces of the United States and was discharged or released because of a service connected disability;

(3) Was a member of a reserve component of the Armed Forces of the United States and was called to active duty for a period of more than 30 days; or

(4) Was a member of a reserve component of the Armed Forces of the United States who served on active duty in support of a contingency operation (as that term is defined in section 101(a)(13) of title 10, United States Code) on or after September 11, 2001.”

34 CFR 645.6(b).

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Underserved student means a student in one or more of the following subgroups:

(a) A student who is living in poverty or is served by schools with high concentrations of students living in poverty.

(b) A student experiencing homelessness or housing insecurity.

(c) A student who is the first in their family to attend postsecondary education.

(d) A student who is enrolled in or is seeking to enroll in postsecondary education who is eligible for a Pell Grant.

Application Requirements: The following application requirements for FY 2022 are from section 402C(e) of the HEA (20 U.S.C. 1070a-13(e)) and the program regulations at 34 CFR 645.21.

An applicant must submit the following, as part of the application—

(1) Not less than two-thirds of the project's participants will be low-income individuals who are potential first- generation college students;

(2) The remaining participants will be low-income individuals, potential first-generation college students, or veterans who have a high risk for academic failure; and

(3) The project will collaborate with other Federal TRIO projects or programs serving similar populations in the target area in order to minimize the duplication of services and promote collaborations so that more students can be served.

Program Authority: 20 U.S.C. 1070a-11 and 1070a-13.

Note: Projects will be awarded and must be operated in a manner consistent with the nondiscrimination requirements contained in Federal civil rights laws.

Applicable Regulations: (a) The Education Department General Administrative Regulations (EDGAR) in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 645. (e) The Administrative Priorities. (f) The Supplemental Priorities.

Note: The regulations in 34 CFR part 86 apply to institutions of higher education only.

II. Award Information

Type of Award: Discretionary grants.

Estimated Available Funds: The Administration received $1,137,000,000 for the Federal TRIO Programs for FY 2022, of which we intend to use an estimated $19,288,880 for the VUB Program.

Contingent upon the availability of funds and the quality of applications, we may make additional awards in subsequent years from the list of unfunded applications from this competition.

Estimated Range of Awards: $287,537-$460,000.

Estimated Average Size of Awards: $373,768.

Maximum Award: The maximum award varies based on whether the applicant is currently receiving a VUB Program grant, as well as the number of participants served.

• For an applicant that is not currently receiving a VUB Program grant, the maximum award amount is $287,537, based upon a per-participant cost of no more than $2,300 and a minimum of 125 participants.

• For an applicant that is currently receiving a VUB Program grant, the maximum award amount is equal to the applicant's base award amount for FY 2021, and the minimum number of participants is the number of participants in the project's FY 2021 grant award notification.

Estimated Number of Awards: 60.

Note: The Department is not bound by any estimates in this notice.

Project Period: Up to 60 months.

III. Eligibility Information

1. Eligible Applicants: Institutions of higher education; public and private agencies; organizations, including community-based organizations with experience in serving disadvantaged youth; secondary schools; and combinations of such institutions, agencies, and organizations.

2. Cost Sharing or Matching: This competition does not require cost sharing or matching.

3. Indirect Cost Rate Information: This program uses a training indirect cost rate. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see www2.ed.gov/about/offices/list/ocfo/intro.html.

4. Administrative Cost Limitation: This program does not include any program-specific limitation on administrative expenses. All administrative expenses must be reasonable and necessary and conform to Cost Principles described in 2 CFR part 200 subpart E of the Uniform Guidance.

5. Subgrantees: A grantee under this competition may not award subgrants to entities to directly carry out project activities described in its application.

6. Other: An applicant may submit more than one application for a VUB Program grant so long as each application describes a project that serves a different target area (34 CFR 645.20(a)). The Secretary is not designating any additional populations for which an applicant may submit a separate application under this competition (34 CFR 645.20 (b)). The term “target area” is defined as a discrete local or regional geographical area served by a project (34 CFR 645.6(b)).

IV. Application Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Intergovernmental Review: This program is subject to Executive Order 12372 and the regulations in 34 CFR part 79. Information about Intergovernmental Review of Federal Programs under Executive Order 12372 is in the application package for this program.

3. Funding Restrictions: We specify unallowable costs in 34 CFR 645.41. We reference additional regulations outlining funding restrictions in the Applicable Regulations section of this notice.

4. Recommended Page Limit: The application narrative is where you, the applicant, address the selection criteria that reviewers use to evaluate your application. We recommend that you (1) limit the application narrative, which includes the budget narrative, to no more than 65 pages and (2) use the following standards:

• A “page” is 8.5″ x 11″, on one side only, with 1″ margins at the top, bottom, and both sides.

• Double space (no more than three lines per vertical inch) all text in the application narrative, excluding titles, headings, footnotes, quotations, references, and captions as well as all text in charts, tables, figures, and graphs, which may be single-spaced.

• Use a font that is either 12 point or larger, and no smaller than 10 pitch (characters per inch).

• Use one of the following fonts: Times New Roman, Courier, Courier New, or Arial.

The recommended page limit does not apply to the cover sheet; the budget section, including the narrative budget justification; the assurances and certifications; or the one-page abstract. However, the recommended page limit does apply to all of the application narrative. We recommend that any application addressing the competitive preference priorities include no more than three additional pages for each priority, for a total of up to nine additional pages for the competitive preference priorities if the three competitive preference priorities are addressed.

V. Application Review Information

1. Selection Criteria: The following selection criteria are from 34 CFR 645.31.

We will award up to 100 points to an application under the selection criteria and up to 9 additional points to an application under the competitive preference priorities, for a total score of up to 109 points. The maximum number of points available for each criterion is indicated in parentheses.

(a) Need for the project. (Up to 24 points). The Secretary evaluates the need for a VUB project in the proposed target area on the basis of clear evidence that shows—

(i) The proposed target area lacks the services for eligible veterans that the applicant proposes to provide; (Up to 6 points)

(ii) A large number of veterans who reside in the target area are low income and potential first-generation college students; (Up to 6 points)

(iii) A large number of veterans who reside in the target area who have not completed high school, or have completed high school but have not enrolled in a program of postsecondary education; (Up to 6 points) and

(iv) Other indicators of need for a VUB project, including the presence of unaddressed academic or socio-economic problems of veterans in the area. (Up to 6 points)

(b) Objectives. (Up to 9 points). The Secretary evaluates the quality of the applicant's objectives and proposed targets (percentages) in the following areas on the basis of the extent to which they are both ambitious, as related to the need data provided under selection criterion (a), and attainable, given the project's plan of operation, budget, and other resources:

(i) Academic performance (standardized test scores) (2 points);

(ii) Education program retention and completion (3 points);

(iii) Postsecondary enrollment (3 points); and

(iv) Postsecondary completion (1 point).

(c) Plan of operation. (Up to 30 points). The Secretary determines the quality of the applicant's plan of operation by assessing the quality of—

(1) The plan to inform the faculty and staff at the applicant institution or agency and the interested individuals and organizations throughout the target area of the goals and objectives of the project (Up to 3 points);

(2) The plan for identifying, recruiting, and selecting participants to be served by the project (Up to 3 points);

(3) The plan for assessing individual participant needs and for monitoring the academic progress of participants while they are in VUB (Up to 3 points);

(4) The plan for locating the project within the applicant's organizational structure (Up to 3 points);

(5) The curriculum, services and activities that are planned for participants in both the academic year and summer components (Up to 3 points);

(6) The planned timelines for accomplishing critical elements of the project (Up to 3 points);

(7) The plan to ensure effective and efficient administration of the project, including, but not limited to, financial management, student records management, and personnel management (Up to 3 points);

(8) The applicant's plan to use its resources and personnel to achieve project objectives and to coordinate the VUB project with other projects for disadvantaged students (Up to 3 points);

(9) The plan to work cooperatively with parents and key administrative, teaching, and counseling personnel at the target schools to achieve project objectives (Up to 3 points); and

(10) A follow-up plan for tracking graduates of VUB as they enter and continue in postsecondary education (Up to 3 points).

(d) Applicant and community support. (Up to 16 points). The Secretary evaluates the applicant and community support for the proposed project on the basis of the extent to which—

(1) The applicant is committed to supplementing the project with resources that enhance the project such as: Space, furniture and equipment, supplies, and the time and effort of personnel other than those employed in the project (Up to 8 points).

(2) Resources secured through written commitments from community partners (Up to 8 points).

(i) An applicant that is an institution of higher education must include in its application commitments from the target schools and community organizations;

(ii) An applicant that is a secondary school must include in its application commitments from institutions of higher education, community organizations, and, as appropriate, other secondary schools and the school district;

(iii) An applicant that is a community organization must include in its application commitments from the target schools and institutions of higher education.

(e) Quality of personnel. (Up to 8 points). To determine the quality of personnel the applicant plans to use, the Secretary looks for information that shows—

(1) The qualifications required of the project director, including formal training or work experience in fields related to the objectives of the project and experience in designing, managing, or implementing similar projects (Up to 3 points);

(2) The qualifications required of each of the other personnel to be used in the project, including formal training or work experience in fields related to the objectives of the project (Up to 3 points); and

(3) The quality of the applicant's plan for employing personnel who have succeeded in overcoming barriers similar to those confronting the project's target population (Up to 2 points).

(f) Budget and cost effectiveness. (Up to 5 points). The Secretary reviews each application to determine the extent to which—

(1) The budget for the project is adequate to support planned project services and activities (Up to 3 points); and

(2) Costs are reasonable in relation to the objectives and scope of the project (Up to 2 points).

(g) Evaluation plan. (Up to 8 points). The Secretary evaluates the quality of the evaluation plan for the project on the basis of the extent to which the applicant's methods of evaluation—

(1) Are appropriate to the project and include both quantitative and qualitative evaluation measures (Up to 4 points); and

(2) Examine in specific and measurable ways the success of the project in making progress toward achieving its process and outcomes objectives (Up to 4 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal assistance from the Department of Education (34 CFR 100.4, 104.5, 106.4, 108.8, and 110.23).

For this competition, a panel of non-Federal reviewers will review each application in accordance with the selection criteria in 34 CFR 645.31. The individual scores of the reviewers will be added and the sum divided by the number of reviewers to determine the average peer reviewer score received in the review process. Additionally, in accordance with 34 CFR 645.32, the Secretary will award prior experience points to applicants that conducted a VUB Program project during budget periods 2017-18, 2018-2019, 2019-20, and 2020-21, based on their documented experience. Prior experience points, if any, will be added to the application's averaged reader score to determine the total score for each application.

If there are insufficient funds for all applications with the same total scores, the Secretary will choose among the tied applications so as to serve geographic areas in which there is a significant concentration of veterans, that have been underserved by the VUB program, in accordance with 34 CFR 645.30(c) and the following procedures. The Secretary will identify and recommend an award for—

• First, applicants in the funding band that are located within a Congressional District (a) that did not have a VUB project during the prior grant cycle and (b) that have the highest percentage of veterans among the general population of their district. If this first tie-breaker provision exhausts available funds, then no further action is taken.

• Second, the remaining applicants in the funding band that have the highest percentage of veterans among the general population of their district.

Note: In applying the tie-breaker criteria, the Department will use the most current data available. With respect to Congressional Districts and percentages of veterans among the general population within Congressional Districts, the most recent available data from the National Center for Veterans Analysis and Statistics Veterans Population Tables for Congressional Districts is for the 116th Congress. Therefore, the geographical boundaries used for the tie-breaker are drawn from the 116th Congress.

3. Risk Assessment and Special Conditions: Consistent with 2 CFR 200.206, before awarding grants under this program the Department conducts a review of the risks posed by applicants. Under 2 CFR 200.208, the Secretary may impose special conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management (SAM). You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The success of the VUB Program will be measured by the percentage of VUB participants who enroll in and complete a postsecondary education program. The following performance measures have been developed to track progress toward achieving program success:

(a) The percentage of VUB participants who enrolled in a program of postsecondary education;

(b) The percentage of former VUB participants who enrolled in a program of postsecondary education and who attained either an associate's degree within three years or a bachelor's degree within six years;

(c) The percentage of former VUB participants who enrolled in a program of postsecondary education and who in the first year of the program placed into college-level math and English without the need for remediation; and

(d) The percentage of former VUB participants who enrolled in a program of postsecondary education and graduated on time--within four years for a bachelor's degree and within two years for an associate's degree.

All VUB Program grantees will be required to submit APRs.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, Braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Michelle Asha Cooper,
Acting Assistant Secretary for the Office of Postsecondary Education.

[FR Doc. 2022-08827 Filed 4-25-22; 8:45 am]

BILLING CODE 4000-01-P